DEPARTMENT OF HEALTH AND HUMAN SERVICES

Indian Health Service

Notice of Listing of Members of the Indian Health Service Senior Executive Service Performance Review Board

AGENCY: Indian Health Service, HHS.

ACTION: Notice.

SUMMARY: Notice is provided of the persons who will serve on the Indian Health Service Senior Executive Service Performance Review Board.

SUPPLEMENTARY INFORMATION: The Indian Health Service (IHS) announces the persons who will serve on the IHS Senior Executive Service Performance Review Board (PRB). This action is being taken in accordance with 5 U.S.C. 4314(c)(4), which requires that members of PRBs be appointed in a manner to ensure consistency, stability, and objectivity in performance appraisals; and requires that notice of the appointment of an individual to serve as a member be published in the Federal Register.

The following persons may be named to serve on the PRB from 2023-2025, which oversees the evaluation of performance appraisals and compensation for Senior Executive Service, Senior Level/Senior Technical, and Title 42 executive-equivalent members of the IHS.

Buchanan, Chris

Cooper, Jennifer

Cotton, Beverly

Curtis, Jillian

Driving Hawk, James

Frye, Daniel

Gaikowski, Dixie

Gyorda, Lisa

LaRoche, Darrell

Redgrave, Bryce

Smith, Phillip B. (Chair)

Watts, Travis

For further information about the PRB, contact Nathan Anderson, Office of Human Resources, Indian Health Service, 5600 Fishers Lane, Rockville, MD 20857, or by phone at 605-681-4940.

P. Benjamin Smith,
Deputy Director, Indian Health Service.

[FR Doc. 2023-13892 Filed 6-29-23; 8:45 am]

BILLING CODE 4165-16-P